FEDERAL COMMUNICATIONS COMMISSION

47 CFR Parts 1, 2, 15, 25, 30, and 101

[GN Docket No. 14-177, IB Docket Nos. 15-256 and 97-95, WT Docket No. 10-112; Report No. 3065]

Petitions for Reconsideration of Action in Rulemaking Proceeding

AGENCY: Federal Communications Commission.

ACTION: Petition for reconsideration; correction.

SUMMARY: The Federal Communications Commission (Commission) published a document in the Federal Register of December 30, 2016, concerning petitions for reconsideration filed in the Commission's rulemaking proceeding. The date for filing replies was incorrect. This document corrects the filing deadline date for replies to an opposition to the Petitions.

FOR FURTHER INFORMATION CONTACT: John Schauble, Wireless Telecommunications Bureau, (202) 418-0797; email: John.Schauble@fcc.gov.

Correction

In the Federal Register of December 30, 2016, in FR Doc. 2016-31709, on page 96415, in the first column, correct the DATES section to read:

DATES: Oppositions to the Petitions must be filed on or before January 17, 2017. Replies to an opposition must be filed on or before January 27, 2017.

Federal Communications Commission.
Marlene H. Dortch,
Secretary.

[FR Doc. 2017-00342 Filed 1-10-17; 8:45 am]

BILLING CODE 6712-01-P